DEPARTMENT OF COMMERCE

International Trade Administration

[C-570-074]

Common Alloy Aluminum Sheet From the People's Republic of China: Preliminary and Final Results of Countervailing Duty Administrative Review; 2018-2019; Correction

AGENCY: Enforcement and Compliance, International Trade Administration, Department of Commerce.

ACTION: Notice; correction.

SUMMARY: The Department of Commerce (Commerce) published Federal Register notices of the preliminary and final results of the administrative review of the countervailing duty (CVD) order on common alloy aluminum sheet (aluminum sheet) from the People's Republic of China (China) covering the period April 23, 2018, through December 31, 2019, on June 25, 2021, and December 23, 2021, respectively. These notices contained incorrect spellings of company names subject to this administrative review.

DATES: Applicable January 4, 2022.

FOR FURTHER INFORMATION CONTACT: Natasia Harrison, AD/CVD Operations, Office VI, Enforcement and Compliance, International Trade Administration, U.S. Department of Commerce, 1401 Constitution Avenue NW, Washington, DC 20230; telephone: (202) 482-1240.

SUPPLEMENTARY INFORMATION:

Corrections

In the Federal Register of June 25, 2021, in FR Doc 2021-13551, on page 33651, in footnote 14, correct the spelling of “Shejiang Nanjie Industry Co., Ltd” to “Zhejiang Nanjie Industry Co., Ltd.” Similarly, in the Federal Register of December 23, 2021, in FR Doc 2021-27893, on page 72928, in footnote 16, correct the spelling of “Shejiang Nanjie Industry Co., Ltd” to “Zhejiang Nanjie Industry Co., Ltd.”

In the Federal Register of June 25, 2021, in FR Doc 2021-13551, on page 33651, in the third column, the subsidy rate table, and footnote 12, correct the spelling of “Zhengzhou Mingtai Industry Co.,” to “Zhengzhou Mingtai Industry Co., Ltd.” Similarly, in the Federal Register of December 23, 2021, in FR Doc 2021-27893, on page 72927, in third column, and on page 72928, in the subsidy rate table and in footnote 13, correct the spelling of “Zhengzhou Mingtai Industry Co.,” to “Zhengzhou Mingtai Industry Co., Ltd.”

Background

On June 25, 2021, and December 23, 2021, respectively, Commerce published in the Federal Register the preliminary and final results of the administrative review of the CVD order on aluminum sheet from China covering the period April 23, 2018, through December 31, 2019.¹ Both notices contained incorrect spellings of the company names, “Zhejiang Nanjie Industry Co., Ltd.” and “Zhengzhou Mingtai Industry Co., Ltd.” misspelled as “Shejiang Nanjie Industry Co., Ltd.” and “Zhengzhou Mingtai Industry Co.” respectively.

¹ See Common Alloy Aluminum Sheet from the People's Republic of China: Preliminary Results of Countervailing Duty Administrative Review, Rescission of Review, in Part, and Intent to Rescind, in Part; 2018-2019, 86 FR 33650 (June 25, 2021); and Common Alloy Aluminum Sheet from the People's Republic of China: Final Results and Partial Rescission of Countervailing Duty Administrative Review; 2018-2019, 86 FR 72927 (December 23, 2021).

Notification to Interested Parties

This notice is issued and published in accordance with sections 751(a)(1) and 777(i)(1) of the Tariff Act of 1930, as amended.

Dated: December 29, 2021.
Ryan Majerus,
Deputy Assistant Secretary for Policy and Negotiations, Performing the Non-Exclusive Functions and Duties of the Assistant Secretary Enforcement and Compliance.

[FR Doc. 2021-28505 Filed 1-3-22; 8:45 am]

BILLING CODE 3510-DS-P